DEPARTMENT OF VETERANS AFFAIRS

Enhanced-Use Lease of U.S. Department of Veterans Affairs (VA) Real Property for the Development of Permanent Supportive Housing Facility at the VA Greater Los Angeles Healthcare System—West Los Angeles, Los Angeles, California

AGENCY: U.S. Department of Veterans Affairs.

ACTION: Notice of intent to enter into an Enhanced-Use Lease (EUL).

SUMMARY: The Secretary of VA intends to enter into an EUL for the purpose of utilizing Building 209, located on the grounds of the VA Greater Los Angeles Healthcare System—West Los Angeles Campus, Los Angeles, California, and consisting of 55 housing units of permanent supportive housing for Veterans. The EUL lessee, Veterans Housing Partnership, LLC, will finance, design, manage, operate, and maintain, permanent supportive housing for eligible homeless Veterans, or Veterans at risk of homelessness, and their families. Additionally, the Developer/Lessee will be required to provide supportive services that guide Veteran residents towards long-term independence and self-sufficiency.

FOR FURTHER INFORMATION CONTACT: Edward L. Bradley III, Office of Asset Enterprise Management (044), Department of Veterans Affairs, 810 Vermont Avenue NW., Washington, DC 20420, (202) 461-7778.

SUPPLEMENTARY INFORMATION: Title 38 U.S.C. 8161, et seq., as amended by the West Los Angeles Leasing Act of 2016 (Pub. L. 114-226), authorizes the Secretary to enter into an EUL for the provision of supportive housing, if the lease would not be inconsistent with and will not adversely affect the mission of the Department. This project comports with those parameters.

Signing Authority

The Secretary of Veterans Affairs approved this document and authorized the undersigned to sign and submit the document to the Office of the Federal Register for publication electronically as an official document of the Department of Veterans Affairs. David J. Shulkin, M.D., Secretary of Veterans Affairs, approved this document on March 15, 2017, for publication.

Dated: March 15, 2017.
Jeffrey Martin,
Office Program Manager, Office of Regulation Policy & Management, Office of the Secretary, Department of Veterans Affairs.

[FR Doc. 2017-05449 Filed 3-17-17; 8:45 am]

BILLING CODE 8320-01-P